NUCLEAR REGULATORY COMMISSION

Advisory Committee on Reactor Safeguards

In accordance with the purposes of Sections 29 and 182b of the Atomic Energy Act (42 U.S.C. 2039, 2232b), the Advisory Committee on Reactor Safeguards (ACRS) will hold a meeting on May 7-9, 2009, 11545 Rockville Pike, Rockville, Maryland. The date of this meeting was previously published in the Federal Register on Monday, October 6, 2008 (73 FR 58268-58269).

Thursday, May 7, 2009, Conference Room T-2b3, Two White Flint North, Rockville, Maryland

8:30 a.m.-8:35 a.m.: Opening Remarks by the ACRS Chairman (Open)—The ACRS Chairman will make opening remarks regarding the conduct of the meeting.

8:35 a.m.-10:30 a.m.: Proposed Rule on Risk-Informed Changes to Loss-of-Coolant Accident Technical Requirements (Open)—The Committee will hear presentations by and hold discussions with representatives of the NRC staff regarding the proposed rule on a voluntary risk-informed alternative to the current requirements of emergency core cooling systems, and related matters.

10:45 a.m.-12:15 p.m.: Proposed Resolution of Generic Safety Issue (GSI)-163, “Multiple Steam Generator Tube Leakage” (Open)—The Committee will hear presentations by and hold discussions with representatives of the NRC staff regarding the proposed resolution of GSI-163 regarding multiple steam generator tube leakage, and related matters.

1:15 p.m.-2:45 p.m.: Draft Final Regulatory Guide 1.214, “Response Procedures for Potential or Actual Aircraft Attacks” (Open/Closed)—The Committee will hear presentations by and hold discussions with representatives of the NRC staff regarding the draft final Regulatory Guide 1.214 and related matters. [Note: A portion of this Session may be closed to protect security and safeguards information pursuant to 5 U.S.C. 552b(c)(3).]

3 p.m.-4:30 p.m.: Status and Update Concerning Revisions to the AP1000 Design Control Document (Open)—The Committee will hear presentations by and hold discussions with representatives of the NRC staff on the current status of the activities associated with the revisions to the AP1000 Design Control Document and related matters.

4:45 p.m.-5 p.m.: Subcommittee Report (Open)—The Committee will hear a report by and hold discussions with the Chairman of the Safety Research Program Subcommittee regarding several-seismic related issues that were discussed during the meeting on April 16-17, 2009.

5 p.m.-7 p.m.: Preparation of ACRS Reports (Open/Closed)—The Committee will discuss proposed ACRS reports on matters discussed during this meeting. [Note: A portion of this Session may be closed to protect security and safeguards information pursuant to 5 U.S.C. 552b (c)(3).]

Friday, May 8, 2009, Conference Room T-2b3, Two White Flint North, Rockville, Maryland

8:30 a.m.-8:35 a.m.: Opening Remarks by the ACRS Chairman (Open)—The ACRS Chairman will make opening remarks regarding the conduct of the meeting.

8:35 a.m.-10 a.m.: Preparation for Meeting with the Commission on June 4, 2009 (Open)—The Committee will hear presentations by and hold discussions with representatives of the NRC staff regarding the following topics scheduled for the meeting with the Commission on June 4, 2009: Containment Overpressure Credit Issue, Pressurized Thermal Shock Rule, Digital Instrumentation and Control Matters, and Options to Revise NRC Regulations Based on the International Commission on Radiation Protection (ICRP) Recommendations/Progress on Recommendations of the Independent External Review Panel on Materials Licensing Program.

10:15 a.m.-11:15 a.m.: Quality Assessment of Selected Research Projects (Open)—The Committee will hear reports by and hold discussions with the members of the ACRS Panels regarding the quality assessment of the NRC research projects on: NUREG-6964, “Crack Growth Rates and Metallographic Examinations of Alloy 600 and Alloy 82/182 from Field and Laboratory Materials Testing in PWR Environments,” and Draft NUREG-xxxx, “Diversity Strategies for Nuclear Power Plant Instrumentation and Control Systems.”

11:15 a.m.-12 p.m.: Future ACRS Activities/Report of the Planning and Procedures Subcommittee (Open/Closed)—The Committee will discuss the recommendations of the Planning and Procedures Subcommittee regarding items proposed for consideration by the full Committee during future ACRS meetings and other matters related to the conduct of the ACRS business.

[Note: A portion of this Session may be closed pursuant to 5 U.S.C. 552b(c)(2) and (6) to discuss organizational and personnel matters that relate solely to internal personnel rules and practices of ACRS, and information the release of which would constitute a clearly unwarranted invasion of personal privacy.]

12 p.m.-12:15 p.m.: Reconciliation of ACRS Comments and Recommendations (Open)—The Committee will discuss the responses from the NRC Executive Director for Operations to comments and recommendations included in recent ACRS reports and letters.

1:15 p.m.-7:00 p.m.: Preparation of ACRS Reports (Open/Closed)—The Committee will discuss proposed ACRS reports. [Note: A portion of this Session may be closed to protect security and safeguards information pursuant to 5 U.S.C. 552b(c)(3).]

Saturday, May 9, 2009, Conference Room T-2b3, Two White Flint North, Rockville, Maryland

8:30 a.m.-12:30 p.m.: Preparation of ACRS Reports (Open/Closed)—The Committee will continue its discussion of proposed ACRS reports. [Note: A portion of this Session may be closed to protect security and safeguards information pursuant to 5 U.S.C. 552b(c)(3).]

12:30 p.m.-1 p.m.: Miscellaneous (Open)—The Committee will discuss matters related to the conduct of Committee activities and specific issues that were not completed during previous meetings, as time and availability of information permit.

Procedures for the conduct of and participation in ACRS meetings were published in the Federal Register on October 6, 2008 (73 FR 58268-58269). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close a portion of this meeting noted above to discuss security and safeguards information pursuant to 5 U.S.C. 552b(c)(3) and organizational and personnel matters that relate solely to internal personnel rules and practices of ACRS, and information the release of which constitute a clearly unwarranted invasion of personal privacy pursuant to 5 U.S.C. 552b(c)(2) and (6).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m. (ET). ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: April 15, 2009.
Annette L. Vietti Cook,
Secretary of the Commission.

[FR Doc. E9-9101 Filed 4-20-09; 8:45 am]

BILLING CODE 7590-01-P